DEPARTMENT OF AGRICULTURE

Forest Service

Forest Service Manual 2000 National Forest Resource Management; Chapter 2040 National Forest System Monitoring

AGENCY: Forest Service, Agriculture (USDA).

ACTION: Notice of availability for public comment.

SUMMARY: The Forest Service (Forest Service or Agency), United States Department of Agriculture (USDA), is proposing to establish a new chapter and new direction for all types of monitoring activities across the National Forest System to track conditions and inform evidence-based decision-making and adaptive management.

DATES: Comments must be received in writing by December 28, 2023.

ADDRESSES: Comments may be submitted electronically to https://cara.fs2c.usda.gov/Public/CommentInput?project=ORMS-3585. Written comments may be mailed to Mara Alexander, National Adaptive Management Program Lead, Ecosystem Management Coordination, 201 14th Street SW, Washington, DC 20024. All timely received comments, including names and addresses, will be placed in the record and will be available for public inspection and copying. The public may inspect comments received at https://cara.fs2c.usda.gov/Public/ReadingRoom?project=ORMS-3585.

FOR FURTHER INFORMATION CONTACT: Mara Alexander, National Adaptive Management Program Lead, Ecosystem Management Coordination, at 202-597-1245 or by electronic mail to mara.alexander@usda.gov. Individuals who use telecommunication devices for the deaf and hard of hearing (TDD) may call the Federal Relay Service at 800-877-8339, 24 hours a day, every day of the year, including holidays.

SUPPLEMENTARY INFORMATION: The proposed new Forest Service Manual Chapter 2040 on National Forest System Monitoring will improve the Agency's ability to make evidence-based decisions, as required by the 2012 Planning Rule and the Foundations for Evidence-Based Policymaking Act of 2018. The proposed directive creates a framework that clearly defines the Forest Service's monitoring principles, what those principles are intended to accomplish, and the roles and responsibilities for leaders at all levels to implement the policy. An analysis of existing agency policy in Forest Service Handbooks and Manuals was conducted to evaluate monitoring requirements to inform the development of a National Forest System monitoring policy.

The Forest Service has determined that the proposed new directive sets forth policy and responsibilities, with the goal of providing current direction applicable to the Forest Service monitoring program. Therefore, the Forest Service is publishing the proposed directive for public comment in accordance with 36 CFR part 216. The Forest Service is seeking public comment on the proposed directive, including the sufficiency of the proposed directive in meeting its stated objectives, ways to enhance the utility and clarity of information within the direction, or ways to streamline processes outlined. The proposed directive location of this new chapter has the potential to change. It is expected that Chapter 2040 will replace Chapter 1940—Inventory, Monitoring, and Assessment Activities which established direction associated solely for land management planning.

Forest Service National Environmental Policy Act procedures exclude from documentation in an environmental assessment or impact statement “rules, regulations, or policies to establish service wide administrative procedures, program processes, or instructions” 36 CFR 220.6(d)(2). The Agency's conclusion is that these proposed directives fall within this category of actions and that no extraordinary circumstances exist as currently defined that require preparation of an environmental assessment or an environmental impact statement.

After the public comment period closes, the Forest Service will consider timely comments that are within the scope of the proposed directive in the development of the final directive. A notice of the final directive, including a response to timely comments, will be posted on the Forest Service's web page at https://www.fs.usda.gov/about-agency/regulations-policies/comment-on-directives.

Dated: November 9, 2023.
Gregory Smith,
Associate Deputy Chief, National Forest System.

[FR Doc. 2023-26161 Filed 11-27-23; 8:45 am]

BILLING CODE 3411-15-P